NUCLEAR REGULATORY COMMISSION

10 CFR Part 72

[NRC-2018-0221]

RIN 3150-AK18

List of Approved Spent Fuel Storage Casks: Holtec International HI-STORM 100 Multipurpose Canister Cask System, Certificate of Compliance No. 1014, Amendment Nos. 11 and 12

AGENCY: Nuclear Regulatory Commission.

ACTION: Direct final rule; confirmation of effective date.

SUMMARY: The U.S. Nuclear Regulatory Commission (NRC) is confirming the effective date of February 25, 2019, for the direct final rule that was published in the Federal Register on December 12, 2018. This direct final rule amended the NRC's spent fuel storage regulations by revising the Holtec International HI-STORM 100 Multipurpose Canister Cask System (HI-STORM 100 System) listing within the “List of approved spent fuel storage casks” to include Amendment Nos. 11 and 12 to Certificate of Compliance No. 1014. Amendment Nos. 11 and 12 revise multiple items in the technical specifications for multi-purpose canister models listed under Certificate of Compliance No. 1014; most of these revisions involve changes to the authorized contents. In addition, Amendment No. 11 makes several other editorial changes.

DATES: The effective date of February 25, 2019, for the direct final rule published December 12, 2018 (83 FR 63794), is confirmed.

ADDRESSES: Please refer to Docket ID NRC-2018-0221 when contacting the NRC about the availability of information for this action. You may obtain publicly-available information related to this action by any of the following methods:

• Federal Rulemaking website: Go to http://www.regulations.gov and search for Docket ID NRC-2018-0221. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The proposed amendments to the certificate, the proposed changes to the technical specifications, and the preliminary safety evaluation reports are available in ADAMS for Amendment No. 11 under Accession No. ML18141A560 and Amendment No. 12 under Accession No. ML18087A055. The final amendments to the certificate, final changes to the technical specifications, and final safety evaluation reports can also be viewed in ADAMS under Accession No. ML18355A369.

• NRC's PDR: You may examine and purchase copies of public documents at the NRC's PDR, Room O1-F21, One White Flint North, 11555 Rockville Pike, Rockville, Maryland 20852.

FOR FURTHER INFORMATION CONTACT: Yen-Ju Chen, Office of Nuclear Material Safety and Safeguards; telephone: 301-415-1018; email: Yen-Ju.Chen@nrc.gov or Vanessa Cox, Office of Nuclear Material Safety and Safeguards; telephone: 301-415-8342; email: Vanessa.Cox@nrc.gov. Both are staff of the U.S. Nuclear Regulatory Commission, Washington, DC 20555-0001.

SUPPLEMENTARY INFORMATION: On December 12, 2018 (83 FR 63794), the NRC published a direct final rule amending its regulations in part 72 of title 10 of the Code of Federal Regulations (10 CFR) to the HI-STORM 100 System listing within the “List of approved spent fuel storage casks” to include Amendment Nos. 11 and 12 to Certificate of Compliance No. 1014. Amendment Nos. 11 and 12 revise multiple items in the technical specifications for multi-purpose canister models listed under Certificate of Compliance No. 1014; most of these revisions involve changes to the authorized contents. In addition, Amendment No. 11 makes several other editorial changes.

In the direct final rule, the NRC stated that if no significant adverse comments were received, the direct final rule would become effective on February 25, 2019. As described more fully in the direct final rule, a significant adverse comment is a comment where the commenter explains why the rule would be inappropriate, including challenges to the rule's underlying premise or approach, or would be ineffective or unacceptable without a change.

The NRC received two comments and has determined that they are not significant adverse comments. One comment questioned the short-term economic gains. As this rulemaking only addressed changes to the technical specifications for dry shielded canisters used to store nuclear waste on-site, the NRC determined this comment to be out of scope of this direct final rule. The second comment concerned specific casks used at a reactor site, a direct final rule for another storage cask, and another cask that is the subject of an NRC enforcement action. These issues are also outside the scope of this direct final rule.

The second commenter also stated that the environmental assessment for this direct final rule did not consider the effects of certain natural phenomena. Pursuant to 10 CFR part 72, the NRC requires that an applicant for a spent fuel storage system provide the design bases, design criteria, and the margins of safety for the system in its safety analysis. The design bases, design criteria, and safety margins include consideration of applicable natural phenomena. In its review, the NRC determined that the cask system is designed to mitigate the effects of design basis accidents, including human-induced and the most severe natural phenomena. Specifically, in considering design requirements for each accident condition, the NRC evaluates whether the design would prevent loss of confinement, shielding, and criticality control in the event of an accident. The NRC identified a broad range of natural hazards and accidents that were considered in the environmental assessment for this direct final rule. Further, the safety evaluation report for the Holtec International HI-STORM 100 Cask System (ADAMS Accession No. ML003711865; May 4, 2000) identified all accident-level events and conditions, which are Design Events III and IV as defined in American National Standard Institute/American Nuclear Society 57.9-1984. These include natural phenomena and human-induced low-probability events such as those listed in Comment 2. The NRC determined in the May 4, 2000, safety evaluation report that all potential safety consequences were considered.

This direct final rule makes changes to the technical specifications of Certificate of Compliance No. 1014 for the HI-STORM 100 Cask System. However, this direct final rule makes limited and routine changes; it does not involve significant changes to the design or the fabrication of the cask system. The second comment does not raise specific safety concerns regarding the changes made in this direct final rule. The second comment did not propose a specific change or an addition that could be incorporated into this direct final rule and did not raise a relevant issue not previously addressed by the NRC. Accordingly, the second comment does not meet the criteria of a significant adverse comment. Because no significant adverse comments were received, this direct final rule will become effective as scheduled.

Dated at Rockville, Maryland, this 12th day of February 2019.
For the Nuclear Regulatory Commission.
Cindy K. Bladey,
Chief, Regulatory Analysis and Rulemaking Support Branch, Division of Rulemaking, Office of Nuclear Material Safety and Safeguards.

[FR Doc. 2019-02593 Filed 2-15-19; 8:45 am]

BILLING CODE 7590-01-P